DEPARTMENT OF THE INTERIOR

National Park Service

Notice of Inventory Completion: Missouri Department of Natural Resources, Jefferson City, MO

AGENCY: National Park Service, Interior.

ACTION: Notice.

Notice is here given in accordance with the Native American Graves Protection and Repatriation Act (NAGPRA), 25 U.S.C. 3003, of the completion of an inventory of human remains in the control of the Missouri Department of Natural Resources, Jefferson City, MO. The human remains were removed from Oregon County, MO.

This notice is published as part of the National Park Service's administrative responsibilities under NAGPRA, 25 U.S.C. 3003(d)(3). The determinations in this notice are the sole responsibility of the museum, institution, or Federal agency that has control of the Native American human remains. The National Park Service is not responsible for the determinations in this notice.

An assessment of the human remains was made by the Missouri Department of Natural Resources professional staff in consultation with representatives of the Osage Nation, Oklahoma.

The following tribes either requested additional information about the human remains, deferred to the Osage Nation, or stated that they did not have an interest in the human remains: Absentee Shawnee Tribe of Indians of Oklahoma; Caddo Nation of Oklahoma; Chickasaw Nation, Oklahoma; Delaware Nation, Oklahoma; Iowa Tribe of Kansas and Nebraska; Kickapoo Tribe of Indians of the Kickapoo Reservation in Kansas; Muscogee (Creek) Nation, Oklahoma; Omaha Tribe of Nebraska; Ponca Tribe of Nebraska; Sac & Fox Nation, Oklahoma; and Wyandotte Nation, Oklahoma. The Osage Nation, Oklahoma, responded with interest, and has sent the Missouri Department of Natural Resources a request for repatriation.

In November 2008, human remains representing a minimum of four individuals were removed from the Thayer Site, in Oregon County, MO. No known individuals were identified. No associated funerary objects are present.

The human remains were removed following the initiation of a police investigation. In July 2008, local law enforcement was notified by a citizen that human remains were observed eroding from the cut bank of the Warm Fork of Spring River, and subsequently conducted excavations to determine if the site was a crime scene. A partial skull and other fragmentary remains were recovered, as well as unassociated prehistoric artifacts (possible Late Woodland potsherds and non-diagnostic lithic debitage) and one possible musket ball. Geomorphological data suggest a date of 1000 to 1200 BP for the human remains, which is consistent with the possible Late Woodland period. The police contacted the forensic anthropologist at the University of Missouri, Columbia, who in turn notified the Department of Natural Resources. After determining that stabilization of the bank and preservation in place was not a reasonable and prudent alternative, in November 2008, the human remains were removed from the site. The recovered remains were of partial burials, as an unknown portion of the burial site had already been lost to erosion. Observers from the Osage Nation, Oklahoma, were present throughout the excavation. In deference to the wishes of the tribe, analysis was confined to confirmation of Native American ancestry, and the human remains were put into a secure evidence locker at the Thayer Police Department.

Oregon County is listed on the NAGPRA database as associated with Indian Land Cessions 1784-1894. The Great and Little Osage are named in a treaty. Their descendants are the present-day Osage Nation, Oklahoma. Tribal history and archeological and linguistic studies suggest that the ancestral Dhegiha Sioux populations were present in southern Missouri at the approximate time period estimated for the Thayer burial. The Osage are descended from the Dhegihan Sioux. Other related Dhegihan Sioux language group tribes with an interest in Missouri - Kaw, Omaha, Ponca and Quapaw - have not expressed an interest in the Thayer burial or have deferred to the Osage and do not have a land cessions claim to Oregon County.

Officials of the Missouri Department of Natural Resources have determined that, pursuant to 25 U.S.C. 3001(9), the human remains described above represent the physical remains of a minimum of four individuals of Native American ancestry. Officials of the Missouri Department of Natural Resources also have determined that, pursuant to 25 U.S.C. 3001(2), there is a relationship of shared group identity that can be reasonably traced between the Native American human remains and the Osage Nation, Oklahoma.

Representatives of any other Indian tribe that believes itself to be culturally affiliated with the human remains should contact Judith Deel, Missouri Department of Natural Resources, P.O. Box 179, Jefferson City, MO 65101, telephone (573) 751-7862, before July 28, 2010. Repatriation of the human remains to the Osage Nation, Oklahoma, may proceed after that date if no additional claimants come forward.

The Missouri Department of Natural Resources is responsible for notifying the Osage Nation, Oklahoma, that this notice has been published.

Dated: June 22, 2010
Sherry Hutt,
Manager, National NAGPRA Program.

[FR Doc. 2010-15574 Filed 6-25-10 8:45 am]

BILLING CODE 4312-50-S